DEPARTMENT OF TRANSPORTATION

Federal Aviation Administration

14 CFR Part 39

[Docket No. FAA-2009-1100; Directorate Identifier 2009-NE-37-AD]

RIN 2120-AA64

Airworthiness Directives; International Aero Engines AG (IAE) V2500-A1, V2522-A5, V2524-A5, V2525-D5, V2527-A5, V2527E-A5, V2527M-A5, V2528-D5, V2530-A5, and V2533-A5 Turbofan Engines; Correction

AGENCY: Federal Aviation Administration (FAA), DOT.

ACTION: Notice of proposed rulemaking (NPRM); correction.

SUMMARY: The FAA is correcting an NPRM, which published in the Federal Register. That NPRM applies to IAE V2500-A1, V2522-A5, V2524-A5, V2525-D5, V2527-A5, V2527E-A5, V2527M-A5, V2528-D5, V2530-A5, and V2533-A5 turbofan engines. The docket number is incorrect in three locations. This document corrects the docket number in those three locations. In all other respects, the original document remains the same.

DATES: The NPRM is corrected as of March 1, 2010.

FOR FURTHER INFORMATION CONTACT: Kevin Dickert, Aerospace Engineer, Engine Certification Office, FAA, 12 New England Executive Park, Burlington, MA 01803; e-mail: kevin.dickert@faa.gov; phone: (781) 238-7117, fax: (781) 238-7199.

SUPPLEMENTARY INFORMATION: On February 12, 2010 (75 FR 6860), we published a proposed AD, FR Doc. 2010-2999, in the Federal Register. That AD applies to IAE V2500-A1, V2522-A5, V2524-A5, V2525-D5, V2527-A5, V2527E-A5, V2527M-A5, V2528-D5, V2530-A5, and V2533-A5 turbofan engines. We need to make the following corrections:

§ 39.13 [Corrected]

On page 6860, in the first column, under 14 CFR Part 39, “Docket No. FAA-2009-0544” is corrected to read “Docket No. FAA-2009-1100”.

On page 6860, in the second column, under Comments Invited, in the fifth and sixth line, “Docket No. FAA-2009-0544” is corrected to read “Docket No. FAA-2009-1100”.

On page 6861, in the third column, after International Aero Engines AG, “Docket No. FAA-2009-0544” is corrected to read “Docket No. FAA-2009-1100”.

Issued in Burlington, Massachusetts, on February 19, 2010.
Francis A. Favara,
Manager, Engine and Propeller Directorate, Aircraft Certification Service.

[FR Doc. 2010-4114 Filed 2-26-10; 8:45 am]

BILLING CODE 4910-13-P